FEDERAL COMMUNICATIONS COMMISSION

47 CFR Part 14

[CG Docket No. 10-213, DA 22-463; FR ID 86631]

Interoperable Video Conferencing Service

AGENCY: Federal Communications Commission.

ACTION: Proposed rule.

SUMMARY: In this document, the Consumer and Governmental Affairs Bureau (CGB or Bureau) of the Federal Communications Commission (FCC or Commission) seeks to refresh the record on proposed rules to enable people with disabilities to access and use interoperable video conferencing services by requesting further comment on the kinds of services encompassed by the term “interoperable video conferencing service,” a type of advanced communications service.

DATES: Comments are due on or before June 21, 2022, and reply comments are due on or before July 18, 2022.

ADDRESSES: Comments may be submitted, identified by CG Docket No. 10-213, by either of the following methods:

• Federal Communications Commission's Website: https://www.fcc.gov/ecfs/filings/standard. Follow the instructions for submitting comments.

• Paper Filers: Parties who choose to file by paper must file an original and one copy of each filing. Filings can be sent by hand or messenger delivery, by commercial overnight courier, or by first-class or overnight U.S. Postal Service mail. Currently, the Commission does not accept any hand delivered or messenger delivered filings as a temporary measure taken to help protect the health and safety of individuals, and to mitigate the transmission of COVID-19. All filings must be addressed to the Commission's Secretary, Office of the Secretary, Federal Communications Commission.

For detailed instructions on submitting comments and additional information on the rulemaking process, see document DA 22-463 at: https://www.fcc.gov/document/pn-refresh-record-re-interoperable-video-conferencing.

FOR FURTHER INFORMATION CONTACT: For further information, contact Darryl Cooper at: 202-418-7131; email: Darryl.Cooper@fcc.gov.

SUPPLEMENTARY INFORMATION: This is a summary of the Commission's Public Notice, document DA 22-463, released on April 27, 2022, in CG Docket No. 10-213. The full text of document DA 22-463 is available for public inspection and copying via the Commission's Electronic Comment Filing System (ECFS) and at https://www.fcc.gov/document/pn-refresh-record-re-interoperable-video-conferencing.

To request materials in accessible formats for people with disabilities (Braille, large print, electronic files, audio format), send an email to fcc504@fcc.gov or call the Consumer and Governmental Affairs Bureau at (202) 418-0530.

This proceeding is a “permit-but-disclose” proceeding in accordance with the Commission's ex parte rules. Persons making ex parte presentations must file a copy of any written presentation or a memorandum summarizing any oral presentation within two business days after the presentation (unless a different deadline applicable to the Sunshine period applies) in the docket(s). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b) of the Commission's rules. In proceedings governed by rule § 1.49(f) of the Commission's rules or for which the Commission has made available a method of electronic filing, written ex parte presentations and memoranda summarizing oral ex parte presentations, and all attachments thereto, must be filed through the electronic comment filing system available for this proceeding, and must be filed in their native format (e.g., .doc, .xml, .ppt, searchable .pdf). Participants in this proceeding should familiarize themselves with the Commission's ex parte rules.

Initial Paperwork Reduction Act of 1995 Analysis

This document does not contain proposed information collection requirements subject to the Paperwork Reduction Act of 1995, Public Law 104-13, beyond those already proposed in this proceeding. In addition, therefore, it does not contain any proposed information collection burden for small business concerns with fewer than 25 employees, pursuant to the Small Business Paperwork Relief Act of 2002, Public Law 107-198, see 44 U.S.C. 3506(c)(4), beyond those already proposed in this proceeding.

Synopsis

1. In document DA 22-463, the Bureau seeks to refresh the record in CG Docket No. 10-213 on proposed rules to enable people with disabilities to access and use an interoperable video conferencing service. The Bureau requests further comment on the kinds of services encompassed by the term “interoperable video conferencing service,” a type of advanced communications service (ACS) subject to section 716 of the Communications Act of 1934, as amended (the Act). 47 U.S.C. 617. Other forms of ACS include interconnected voice over internet Protocol service, non-interconnected VoIP, and electronic messaging service. Section 716 of the Act also requires that service providers and equipment manufacturers make advanced communications services and equipment accessible to and usable by people with disabilities, unless the requirements are not achievable.

2. In 2011, the Commission adopted rules implementing the Communications and Video Accessibility Act of 2010 (CVAA) in a Report and Order and Further Notice of Proposed Rulemaking published at 76 FR 82240, December 30, 2011 and 76 FR 82354, December 30, 2011. See also 47 CFR part 14. The Commission incorporated into its rules the statutory definition of “interoperable video conferencing service” as “a service that provides real-time video communications, including audio, to enable users to share information of the user's choosing.” Noting that a question was raised as to what Congress meant by including the word “interoperable” in the term “interoperable video conferencing service,” the Commission found that “the record is insufficient to determine how exactly to define `interoperable' ” in this context. The Commission also found that the word “interoperable” did not indicate a Congressional intent to require that non-interoperable video conferencing services be made interoperable.

3. In the 2011 Further Notice, Commission invited further comment on the meaning of the term “interoperable” in the context of video conferencing services and equipment. Based on the record at that time, the Commission invited comment on three alternative definitions of an “interoperable” service: (1) Able to function inter-platform, inter-network, and inter-provider; (2) having published or otherwise agreed-upon standards that allow for manufacturers or service providers to develop products or services that operate with other equipment or services operating pursuant to the standards; or (3) able to connect users among different video conferencing services, including video relay service (VRS). The Commission also asked whether only one of these alternatives should be adopted, or whether they should all be encompassed in a single definition of “interoperable,” such that a video conferencing service would be deemed interoperable as long as any of the three alternative criteria is satisfied.

4. In response to the 2011 Further Notice, commenters did not reach a consensus on any of the three suggested alternatives. Stating that the definition did not apply to then-current services, some commenters argued that Congress could not have intended that no existing video conferencing services were covered by the statute. Others disagreed, while suggesting that video conferencing services might grow in the direction of interoperability. Some commenters supported a fourth alternative definition of “interoperable” that would apply to those video conferencing services capable of being used on different types of hardware and different types of operating systems.

5. In response to the Commission's April 7, 2021 Public Notice, seeking comment on whether the Commission's accessibility rules should be updated, Consumer and Governmental Affairs, Media, and Wireless Telecommunications Bureaus Seek Update On Commission's Fulfillment of The Twenty-First Century Communications and Video Accessibility Act, GN Docket No. 21-140, Public Notice, 36 FCC Rcd 7108 (2021), the Commission received several comments that briefly addressed the issue of how to define “interoperable video conferencing.” CTIA states that standards groups are best suited to define interoperability standards. The Accessibility Advocacy and Research Organizations (AARO) urge the Commission to resolve the definitional issue by “simply clarify[ing] that the statutory definition of `interoperable video conferencing service,' as a `service that uses real-time video communications, including audio, to enable users to share information of the user's choosing,' is an exhaustive articulation of what Congress intended to be covered.”

6. In February 2022, the Commission's Disability Advisory Committee highlighted the issue of the accessibility of video conferencing platforms in recommending Commission action to facilitate interconnection of such platforms with telecommunications relay services (TRS). The Committee also recommended that the Commission ensure, at a minimum, that video conferencing platforms include built-in closed captioning functionality that is available to all users,” and allow users to control the activation and customize the appearance of captions and video.

7. Request for Additional Comment. The Bureau invites the public to file additional comments on the questions posed in the 2011 Further Notice regarding the meaning of the term “interoperable” in the context of video conferencing service and equipment. The Bureau invites commenters to submit new or additional relevant information about what types of services are currently available in the video conferencing marketplace, the kinds of interoperability they currently offer, and how such developments may assist in reaching an interpretation of “interoperable” that is consistent with the intent of Congress in enacting the CVAA. For example, are there video conferencing services that can be accessed from a wide range of user equipment, software, and device operating systems? How do consumers gain access to video conferencing services today? Are telecommunications services, interconnected and non-interconnected VoIP, and electronic messaging services included in some video conferencing services? Are these ACS components of video conferencing services generally accessible and usable? The Bureau also invites comment on any other developments that the Commission should consider in resolving this issue. While the 2011 Further Notice proposed three possible definitions for the word “interoperable,” commenters may suggest additional alternatives or other types of input on how to interpret that word.

Federal Communications Commission.
Suzanne Singleton,
Chief, Disability Rights Office, Consumer and Governmental Affairs Bureau.

[FR Doc. 2022-10784 Filed 5-18-22; 8:45 am]

BILLING CODE 6712-01-P